DEPARTMENT OF COMMERCE

[I.D. 080102B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Northeast Region Survey of Intent and Capacity to Process Fish and Shellfish.

Form Number(s): None.

OMB Approval Number: 0648-0235.

Type of Request: Regular submission.

Burden Hours: 8.

Number of Respondents: 30.

Average Hours Per Response: 15 minutes.

Needs and Uses: The Fishery Management Plans for Atlantic Mackerel, Squid, and Butterfish include requirements that the National Marine Fisheries Service and/or the Mid-Atlantic Fishery Management Council annually survey domestic processors and joint venture operators to establish industry capacity to utilize the managed species. If US industry is unable to utilize fully the allowed harvest of these species, this information is used in establishing suitable levels of catch for joint ventures and/or direct foreign harvest.

Affected Public: Business or other for-profit organizations, individuals or households.

Frequency: Annually.

Respondent's Obligation: Voluntary.

OMB Desk Officer: David Rostker, (202) 395-3897.

Copies of the above information collection proposal can be obtained by calling or writing Madeleine Clayton, Departmental Paperwork Clearance Officer, (202) 482-3129, Department of Commerce, Room 6608, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: July 30, 2002.
Madeleine Clayton,
Departmental Paperwork Clearance Officer, Office of the Chief Information Officer.

[FR Doc. 02-19817 Filed 8-5-02; 8:45 am]

BILLING CODE 3510-22-S